DEPARTMENT OF THE INTERIOR

National Park Service

36 CFR Chapter I

Meeting of Negotiated Rulemaking Advisory Committee for Dog Management at Golden Gate National Recreation Area

AGENCY: National Park Service, Interior.

ACTION: Notice of meeting.

SUMMARY: In accordance with the Federal Advisory Committee Act (Pub. L. 92-463, 86 Stat. 770, 5 U.S.C. App 1, 10), notice is hereby given of the sixth meeting of the Negotiated Rulemaking Advisory Committee for Dog Management at Golden Gate National Recreation Area (GGNRA).

DATES: The Committee will meet on Thursday, April 5, 2007, beginning at 3 p.m.

ADDRESSES: The meeting will be held at the Ft. Mason Officers' Club, Building 1, Upper Fort Mason, San Francisco, CA. Written comments may be sent to: Superintendent, GGNRA, Ft. Mason, Bldg. 201, San Francisco, CA 94123, Attn: Negotiated Rulemaking.

FOR FURTHER INFORMATION CONTACT: Project information line at 415-561-4728, or go to the Web site at www.parkplanning.nps.gov/goga and select Negotiated Rulemaking for Dog Management at GGNRA.

SUPPLEMENTARY INFORMATION: The Committee was established pursuant to the Negotiated Rulemaking Act of 1990 (5 U.S.C. 561-570) to consider developing a special regulation for dog walking at GGNRA. Although the Committee may modify its agenda during the course of its work, the proposed agenda for this meeting is as follows: Introductions, approval of the meeting summary for the previous meeting, updates since the previous meeting, update on the concurrent NEPA process, report from the Technical Subcommittee on progress to date, next steps, public comment.

The Committee meeting is open to the public and opportunity will be provided for public comment during the meeting. To request a sign language interpreter, lease call the park TDD line (415) 556-2766, at lease a week in advance of the meeting. Please note that federal regulations prohibit pets in public buildings, with the exception of service animals.

Dated: March 2, 2007.
Bernard C. Fagan,
Acting Chief, Office of Policy.

[FR Doc. 07-1371 Filed 3-20-07; 8:45 am]

BILLING CODE 4312-FN-M